DEPARTMENT OF ENERGY

Federal Energy Regulatory Commission

[Docket No. ER01-2566-003, et al.]

Public Service Company of New Mexico, et al., Electric Rate and Corporate Regulation Filings

October 26, 2001.

Take notice that the following filings have been made with the Commission:

1. Public Service Company of New Mexico

[Docket No. ER01-2566-003]

Take notice that on October 23, 2001, Public Service Company of New Mexico (PNM) submitted for filing an amendment to its October 22, 2001 filing in this proceeding. The amendment consists of an executed signature page for the amended version of the Wholesale Requirements Power Sale and Services Agreement (Agreement) between PNM and Texas-New Mexico Power Company (TNMP) filed by PNM in this proceeding, designated as Substitute Service Agreement No. 28 under PNM's FERC Electric Tariff, First Revised Volume No. 3.

Copies of this filing have been served upon TNMP, Southwestern Public Service Company, and the New Mexico Public Regulation Commission.

Comment date: November 13, 2001, in accordance with Standard Paragraph E at the end of this notice.

2. Combined Locks Energy Center, LLC

[Docket No. ER01-2659-002]

Take notice that on October 23, 2001, Combined Locks Energy Center, L.L.C. (CLEC), filed an amendment to its application for market-based rate authority pursuant to the Commission's deficiency letter issued on October 5, 2001.

CLEC respectfully requests that the Commission grant an effective date of October 17, 2001, the date CLEC began producing and selling test power.

Copies of the filing were served upon the public utility's jurisdictional customers, Public Service Commission of Wisconsin.

Comment date: November 13, 2001, in accordance with Standard Paragraph E at the end of this notice.

3. Florida Power Corporation

[Docket No. ER01-2918-001]

Take notice that on October 23, 2001, Florida Power Corporation (FPC) tendered for filing a revised Market-Based Wholesale Power Sales Tariff, FERC Electric Tariff, Second Revised Volume No. 8 (Revised Tariff) to comply with an unpublished letter order issued by the Commission on September 25, 2001 in the above-captioned proceeding (Letter Order). The Revised Tariff has been revised to specifically comport with designation requirements set forth in Order No. 614.

The Letter Order allows the Revised Tariff to become effective as of August 24, 2001.

Copies of the filing were served upon FPC's customers receiving service under the Revised Tariff and the Florida Public Service Commission.

Comment date: November 13, 2001, in accordance with Standard Paragraph E at the end of this notice.

4. South Carolina Electric & Gas Company

[Docket No. ER01-3087-000]

Take notice that on October 23, 2001 South Carolina Electric & Gas Company (SCE&G) submitted a correction to the service agreement with North Carolina Electric Membership Corporation that SCE&G filed on September 19, 2001 in the above referenced docket.

SCE&G states that the only change made in this filing is to correct the name of the issuing officer that appears on the cover page to this agreement. Accordingly, SCE&G continues to request an effective date of August 8, 2001.

Comment date: November 13, 2001, in accordance with Standard Paragraph E at the end of this notice.

5. Virginia Electric and Power Company

[Docket No. ER02-150-000]

Take notice that on October 23, 2001, Virginia Electric and Power Company (Dominion Virginia Power) tendered for filing with the Federal Energy Regulatory Commission (Commission), a Notice of Termination of Service Agreement with Enron Power Marketing, Inc. designated as First Revised Service Agreement No. 1 under FERC Electric Tariff, Third Revised Volume 4.

Dominion Virginia Power respectfully requests an effective date of November 6, 2001.

Copies of the filing were served upon Enron Power Marketing, Inc., the Virginia State Corporation Commission and the North Carolina Utilities Commission.

Comment date: November 13, 2001, in accordance with Standard Paragraph E at the end of this notice.

6. Virginia Electric and Power Company

[Docket No. ER02-151-000]

Take notice that on October 23, 2001, Virginia Electric and Power Company (Dominion Virginia Power) tendered for filing Notice of Termination of Service Agreement with Aquila Energy Marketing Corporation (formerly Aquila Power Corporation) designated as First Revised Service Agreement No. 51 under FERC Electric Tariff, Third Revised Volume 4.

Dominion Virginia Power respectfully requests an effective date of November 5, 2001.

Copies of the filing were served upon Aquila Energy Marketing Corporation (formerly Aquila Power Corporation), the Virginia State Corporation Commission and the North Carolina Utilities Commission.

Comment date: November 13, 2001, in accordance with Standard Paragraph E at the end of this notice.

7. Virginia Electric and Power Company

[Docket No. ER02-153-000]

Take notice that on October 23, 2001, Virginia Electric and Power Company (Dominion Virginia Power) tendered for filing Notice of Termination of Service Agreement with CMS Marketing, Services and Trading Company designated as First Revised Service Agreement No. 104 under FERC Electric Tariff, Third Revised Volume 4.

Dominion Virginia Power also respectfully requests an effective date of November 5, 2001.

Copies of the filing were served upon CMS Marketing, Services and Trading Company, the Virginia State Corporation Commission and the North Carolina Utilities Commission.

Comment date: November 13, 2001, in accordance with Standard Paragraph E at the end of this notice.

8. Virginia Electric and Power Company

[Docket No. ER02-154-000]

Take notice that on October 23, 2001, Virginia Electric and Power Company (Dominion Virginia Power) tendered for filing Notice of Termination of Service Agreement with Constellation Power Source, Inc. designated as First Revised Service Agreement No. 114 under FERC Electric Tariff, Third Revised Volume 4.

Dominion Virginia Power respectfully requests an effective date of November 5, 2001.

Copies of the filing were served upon Constellation Power Source, Inc., the Virginia State Corporation Commission and the North Carolina Utilities Commission.

Comment date: November 13, 2001, in accordance with Standard Paragraph E at the end of this notice.

9. Virginia Electric and Power Company

[Docket No. ER02-155-000]

Take notice that on October 23, 2001, Virginia Electric and Power Company (Dominion Virginia Power) tendered for filing Notice of Termination of Service Agreement with Duke Energy Trading and Marketing, L.L.C. (formerly Pan Energy Power Services, Inc.) designated as First Revised Service Agreement No. 67 under FERC Electric Tariff, Third Revised Volume 4.

Dominion Virginia Power respectfully requests an effective date of November 5, 2001.

Copies of the filing were served upon Duke Energy Trading and Marketing, L.L.C. (formerly Pan Energy Power Services, Inc.), the Virginia State Corporation Commission and the North Carolina Utilities Commission.

Comment date: November 13, 2001, in accordance with Standard Paragraph E at the end of this notice.

10. Wisconsin Public Service Corporation

[Docket No. ER02-157-000]

Take notice that on October 23, 2001, Wisconsin Public Service Corporation (WPSC) tendered for filing its proposed Rate Schedule No. 63, consisting of a six-year renewal lease of a feeder bay in WPSC's Cranberry Substation and related feeder facilities to Eagle River Light & Water Utility (Eagle River). The lease was approved under section 203 of the Federal Power Act by an order issued on September 21, 2001 in Docket No. EC01-135-000.

WPSC requests that the proposed rate schedule become effective on October 24, 2001, the date of the commencement of the six-year renewal of the lease.

WPSC states that it has sent copies of the proposed rate schedule to Eagle River, the Public Service Commission of Wisconsin, the Michigan Public Service Commission, and Wisconsin Public Power, Inc.

Comment date: November 13, 2001, in accordance with Standard Paragraph E at the end of this notice.

11. Mountain View Power Partners II, LLC

[Docket No. ER02-158-000]

Take notice that on October 23, 2001, Mountain View Power Partners II, LLC (Mountain View) tendered for filing with the Federal Energy Regulatory Commission (Commission) a service agreement for power sales (Service Agreement) with its affiliate, PG&E Energy Trading-Power, L.P. (PGET) as required by the Commission in its letter Order of April 16, 2001. See Mountain View Power Partners II, LLC, Docket No. ER01-1336-000 (delegated letter order issued April 16, 2001) (Section 205 Letter Order). See also Prior Notice and Filing Requirements Under Part II of the Federal Power Act, 64 FERC ¶ 61,139 clarified, 65 FERC ¶ 61,081 (1993) (permitting non-marketer public utilities with umbrella form of service agreements on file with the Commission to file individual, executed service agreements with the Commission within thirty days of commencing service). The Service Agreement commits Mountain View to sell capacity, energy and ancillary services to PGET at market-based rates according to its FERC Electric Tariff No. 1.

Comment date: November 13, 2001, in accordance with Standard Paragraph E at the end of this notice.

12. Florida Power & Light Company

[Docket No. OA96-39-007]

Take notice that on October 24, 2001, Florida Power & Light Company (FPL) filed with the Federal Energy Regulatory Commission (Commission) a refund compliance report in connection with the December 10, 1998 settlement agreement between FPL, Florida Municipal Power Agency and Seminole Electric Cooperative, Inc., which the Commission approved by a letter order issued September 13, 2001, in the above-captioned docket.

FPL states that a copy of this filing has been served on the official service list in the above-captioned docket as well as the other dockets listed in the letter order.

Comment date: November 23, 2001, in accordance with Standard Paragraph E at the end of this notice.

Standard Paragraph

E. Any person desiring to be heard or to protest such filing should file a motion to intervene or protest with the Federal Energy Regulatory Commission, 888 First Street, NE., Washington, DC 20426, in accordance with rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

David P. Boergers,
Secretary.

[FR Doc. 01-27531 Filed 11-1-01; 8:45 am]

BILLING CODE 6717-01-P